DEPARTMENT OF JUSTICE

[AAG/A Order No. 014-2006]

Privacy Act of 1974; System of Records

Pursuant to the Privacy Act of 1974 (5 U.S.C. 552a), notice is hereby given that the Justice Management Division (JMD), Department of Justice (DOJ), proposes to revise a system of records entitled “Nationwide Joint Automated Booking System (JABS), Justice/DOJ-005,” last published April 23, 2001 (66 FR 20478). JABS is an important Department of Justice (Department) information sharing project among its law enforcement components: Bureau of Prisons (BOP), Drug Enforcement Administration (DEA), Federal Bureau of Investigation (FBI), U.S. Marshals Service (USMS), and the Bureau of Alcohol, Tobacco, Firearms, and Explosives (ATF). Additionally, the customs and border security functions within the Border and Transportation Security (BTS) Directorate of the Department of Homeland Security (DHS) are using JABS.

The JABS Program directly supports the President's Homeland Security initiative by automating the booking process and providing a secure mechanism to rapidly and positively identify an individual based on a fingerprint submission to the IAFIS. The JABS Program is a multi-agency initiative that is not restricted to Department of Justice users. In June 2004, the USMS added the Inter-Agency booking functionality to their Automated Booking System (ABS) to provide automated submission of booking packages for Federal law enforcement agencies that routinely bring their suspects to the USMS for booking. The strategic goal of the JABS Program is to facilitate electronic access to IAFIS for any Federal law enforcement agency/office that has a requirement to submit fingerprints to the FBI.

Title 5 U.S.C. 552a(e)(4) and (11) provide that the public be given a 30-day period in which to comment on the revised system of records. The Office of Management and Budget (OMB), which has oversight responsibility under the Act, requires that it be given a 40-day period in which to review the system notice.

Therefore, please submit any comments by October 17, 2006. The public, OMB, and the Congress are invited to send written comments to Mary Cahill, Management and Planning Staff, Justice Management Division, Department of Justice, Washington, DC 20530 (Room 1400, National Place Building), (202) 307-1823.

A description of the system of records is provided below.

In accordance with 5 U.S.C. 552a(r), DOJ has provided a report on the revised system to OMB and the Congress.

Dated: August 29, 2006.
Lee J. Lofthus,
Acting Assistant Attorney General for Administration.

JUSTICE/DOJ-005

System Name:

Nationwide Joint Automated Booking System (JABS).

Security Classification:

Sensitive but Unclassified.

System Location:

JABS Program Management Office, Department of Justice, Washington, DC 20530 with data collection sites in multiple federal locations.

Categories of Individuals Covered by the System:

Alleged criminal offenders who have been detained, arrested, booked, or incarcerated. The remainder of this notice will refer to all persons covered by the System as “alleged criminal offender” or “arrestee”.

Categories of Records in the System:

Records may include certain generic or “common” data elements which have been collected by an arresting federal agency at its automated booking station (ABS). An agency may book an alleged criminal offender on behalf of another agency which performed the arrest. Such common data (certain data elements) have been identified by law enforcement as those case and biographical data routinely collected by the law enforcement community during the booking process, e.g., name, date and place of birth, citizenship, hair and eye color, height and weight, occupation, social security number, place, date and time of arrest and jail location, charge, disposition, any other pertinent information related to known activities relevant or unique to the subject. Finally, such data may include electronic fingerprints, mugshots, and pictures of applicable scars, marks, and tattoos.

Authority for Maintenance of the System:

8 U.S.C. 1324 and 1357(f) and (g); 28 U.S.C. 534, 564, 566;5 U.S.C. 301 and 44 U.S.C. 3101; 18 U.S.C. 3621, 4003, 4042, 4082, 4086; 26 U.S.C. 7608; and Comprehensive Drug Abuse Prevention and Control Act of 1970 (Pub. L. 91-513), 21 U.S.C. 801 et seq. and Reorganization Plan No. 2 of 1973.

Purpose:

Nationwide JABS enables the conduct of automated booking procedures by participating law enforcement organizations and provides an automated capability to transmit fingerprint and image data to the Federal Bureau of Investigation's (FBI) Integrated Automated Fingerprint Identification System (IAFIS), Justice/FBI-009 Fingerprint Identification Records Systems (FIRS). JABS maintains a repository of common offender data elements for identification of arrestees by participating federal law enforcement organizations. JABS eliminates repetitive booking of offenders for a single arrest and booking, and thereby eliminates the need for duplicate bookings, i.e., the collection of much the same data by multiple agencies in prisoner processing activities involving such agencies from arrest through incarceration. In addition, JABS standardized booking data elements, enabling cross-agency sharing of booking information, enhancing cooperation among law enforcement agencies, and reducing the threat to law enforcement officials and the public by facilitating the rapid and positive identification of offenders.

Routine Uses of Records Maintained in the System, Including Categories of Users and the Purposes of Such Uses:

Where necessary and/or appropriate, the DOJ may disclose relevant information from the JABS repository and may allow electronic access as follows:

a. To authorized federal law enforcement agencies to input and retrieve booking and arrests data on criminal offenders. In addition, the JABS repository may be electronically accessed by these agencies for other law enforcement purposes such as to learn about the arrest of a fugitive wanted in several jurisdictions, to verify the identity of an arrestee, or to assist in the criminal investigation activities.

b. To other judicial/law enforcement agencies, i.e., courts, probation, and parole agencies, for direct electronic access to JABS to obtain applicable data which will assist them in performing their official duties.

c. To any criminal, civil, or regulatory law enforcement authority (whether federal, state, local, territorial, tribal, or foreign) where the information is relevant to the recipient entity's law enforcement responsibilities.

d. In an appropriate proceeding before a court, or administrative or adjudicative body, when the Department of Justice determines that the records are arguably relevant to the proceeding; or in an appropriate proceeding before an administrative or adjudicative body when the adjudicator determines the records to be relevant to the proceeding.

e. To complainants and/or victims to the extent necessary to provide such persons with information and explanations concerning the progress and/or results of the investigation or case arising from the matters of which they complained and/or of which they were a victim.

f. To contractors, grantees, experts, consultants, students, and others performing or working on a contract, service, grant, cooperative agreement, or other assignment for the Federal Government, when necessary to accomplish an agency function related to this system of records.

g. To a Member of Congress or staff acting upon the Member's behalf when the Member or staff requests the information on behalf of, and at the request of, the individual who is the subject of the record.

h. To the news media and the public, pursuant to 28 CFR 50.2, unless it is determined that release of the specific information in the context of a particular case would constitute an unwarranted invasion of personal privacy.

i. To the National Archives and Records Administration (NARA) for purposes of records management inspections conducted under the authority of 44 U.S.C. 2904 and 2906.

j. The Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

Disclosure to Consumer Reporting Agencies:

Not Applicable.

Policies and Practices for Storing, Retrieving, Accessing, Retaining, and Disposing of Records in the System:

Storage:

Records are stored in computerized media and printed copies. Any paper records kept by individuals will be appropriately secured.

Retrievability:

Data may be retrieved by name, identifying number, or other data elements.

Safeguards:

Nationwide JABS has a combination of technical elements that, together, integrate into a total security infrastructure to ensure access is limited to only pre-authorized users. The key technical design elements of this architecture include: Encrypted user authentication, redundant firewalls, virtual private networks, nonrepudiation, data encryption, anti-virus content inspection, and intrusion detection capabilities. Access to the systems equipment is limited to pre-authorized personnel through physical access safeguards that are enforced 24 hours a day, seven (7) days a week. Facilities and offices which house computer systems are protected at all times by appropriate locks, security guards, and/or alarm systems.

Retention and Disposal:

a. Temporary. Delete from the JABS data base 99 years after the date of the first entry.

b. Fingerprints submitted by law enforcement agencies are removed from the system and destroyed upon the request of the submitting agencies. The destruction of fingerprints under this procedure results in the deletion from the system of all arrest information related to those fingerprints.

c. Fingerprints and related arrest data are removed from the JABS upon receipt of court orders for expunction when accompanied by necessary identifying information.

System Manager(s) and Address(es):

JABS Program Management Office, U.S. Department of Justice, Washington, DC 20530.

Notification Procedure:

Same as “Record Access Procedure.”

Record Access Procedure:

Inquiries must be addressed in writing and should be sent to the JABS Program Management Office, at above address. Provide name, assigned computer location, and a description of information being sought, including the time frame during which the record(s) may have been generated. Provide verification of identity as instructed in 28 CFR 16.41(d).

Contesting Records Procedure:

Same as above.

Records Source Categories:

The record subject; federal law enforcement personnel; the courts; and medical personnel.

Exemptions Claimed for the System:

Pursuant to 5 U.S.C. 552a(j)(2) and (k)(2), the Attorney General has exempted records in this system from subsections (c)(3) and (4), (d), (e)(1), (2) and (3), (4)(G) and (H), (e)(5), (e)(8), (f) and (g) of the Privacy Act. Rules were promulgated in accordance with the requirements of 5 U.S.C. 553(b), (c), and (e) and are codified at 28 CFR 16.131.

[FR Doc. E6-14828 Filed 9-6-06; 8:45 am]

BILLING CODE 4410-ET-P